DEPARTMENT OF LABOR

Employment and Training Administration

[TA-W-70,749]

FANUC Robotics America, Inc., Including On-Site Leased Workers From Right Angle Staffing, Inc., Quanta, Inc., Reliance One, Inc., Populus Group, LLC, Citistaff, Global Automation Technologies, LLC, and Proflow Systems Rochester Hills, MI; Notice of Negative Determination on Reconsideration

On June 21, 2010, the Department of Labor issued a Notice of Affirmative Determination Regarding Application for Reconsideration applicable to workers and former workers of the subject firm. The Department's Notice of determination was published in the Federal Register on July 1, 2010 (75 FR 38125).

The initial investigation resulted in a negative determination which was based on the finding that, during the relevant period, Fanuc Robotics America neither imported articles like or directly competitive with the robotic systems produced at the subject firm, shifted to a foreign country the production of articles like or directly competitive with the robotic systems produced at the subject firm, nor acquired from a foreign country the production of articles like or directly competitive with the robotic systems produced at the subject firm. The Department's survey of the subject firm's major declining customers regarding their purchases of robotic systems in 2007, 2008, and during January through April 2009 revealed negligible imports of robotic systems.

The investigation also revealed that the subject firm was not eligible as a Supplier or a Downstream Producer because they did not supply a component used by a firm that employed a worker group covered by an active Trade Adjustment Assistance (TAA) certification.

In the request for reconsideration, the petitioner provided a list of the subject firm's customers which employed a worker group covered by a TAA certification. In subsequent communications, the petitioner emphasized that she and fellow employees had participated in the actual production process in their customers' plants during the initial installation, testing, and worker training phases following the delivery of the subject firm's robotic devices to the customers.

In response to the request for reconsideration, the Department contacted the subject firm about which of the TAA-certified customers had required employees of the subject firm to be present in the customer's plants during production. The reconsideration investigation revealed that contracts requiring on-site presence of subject firm workers in the customers' plants were infrequent; the sales associated with contracts requiring such presence amounted to a small percentage of the subject firm's total sales (ranging from 1.3 and 5.4 percent during 2007, 2008, and January to April 2009); and the on-site presence of the subject firm's workers was not related to production but related to post-sale customer support.

Because the services supplied by the subject firm to the alleged customers which employed a worker group covered by a TAA certification were not directly used in the production of the article that was the basis of the TAA certification, the workers of the subject firm did not meet the criteria of Section 222(c) and are, therefore, not eligible to apply for TAA as adversely affected secondary workers.

Conclusion

After reconsideration, I affirm the original notice of negative determination of eligibility to apply for worker adjustment assistance for workers and former workers of Fanuc Robotics America, Inc., Rochester Hills, Michigan.

Signed in Washington, DC, this 13th day of July 2010.
Del Min Amy Chen,
Certifying Officer, Division of Trade Adjustment Assistance.

[FR Doc. 2010-18184 Filed 7-23-10; 8:45 am]

BILLING CODE 4510-FN-P